DEPARTMENT OF DEFENSE

Department of the Army

Record of Decision Regarding Implementation of Area Development Plan at Davison Army Airfield, Fort Belvoir, Virginia

AGENCY: Department of the Army, Department of Defense.

ACTION: Notice of availability.

SUMMARY: The Department of the Army (Army) announces the availability of a Record of Decision (ROD) regarding the proposed implementation of an Area Development Plan (ADP) for Davison Army Airfield (DAAF). DAAF is located at U.S. Army Garrison—Fort Belvoir, Virginia. In accordance with the National Environmental Policy Act (NEPA), the ROD identifies the Army's selected alternative, the basis for its selection, the environmentally preferred alternative, and the mitigation and protective measures the Army commits to implement with the selected alternative. The ROD is based on the results of the Army's Final Environmental Impact Statement (EIS), which analyzed the potential environmental impacts associated with the proposed construction, modernization, infrastructure, and demolition projects at DAAF. The Proposed Action (i.e., ADP implementation) consists of all these projects. The Proposed Action will improve the airfield's functional layout, demolish and replace aging facilities and infrastructure, and address multiple operational safety concerns along the runway. The ADP is specific to DAAF and all projects will occur entirely within its boundaries. The Proposed Action does not involve substantial changes in missions, air operations, the number of aircraft, or the workforce population at DAAF. The Army will implement the Proposed Action over approximately 30 years to provide the facilities and infrastructure necessary to support the ongoing and future missions of DAAF tenants.

FOR FURTHER INFORMATION CONTACT: Please contact the Fort Belvoir Directorate of Public Works—Environmental Division (DPW-ED), Ms. Wilamena Harback, via phone at (703) 806-3193 or (703) 806-0020, from Monday through Friday, 8 a.m. to 4 p.m. Further information may also be requested via email: FortBelvoirNOI@usace.army.mil. The ROD, Final EIS, and associated materials are available at the following website: https://home.army.mil/belvoir/index.php/about/Garrison/directorate-public-works/environmental-division.

SUPPLEMENTARY INFORMATION: DAAF has operated since 1951. It is a logistically and operationally valuable location for Department of Defense (DoD) units providing aviation support for federal activities in the national capital region. Many facilities at DAAF date to the 1950s, 1960s, and 1970s. More than 40 percent of buildings at the airfield are at least 50 years old, and an additional 25 percent are between 30 and 49 years old. As a result, multiple DAAF facilities are past their intended life cycle and are obsolete, undersized, and/or inefficient. Their age results in unnecessarily high maintenance costs. Several facilities at DAAF are located within safety zones associated with the airfield's runway and require temporary safety waivers to operate. Thus, they represent a danger to personnel that must be eliminated. Given the above factors, the Army proposed to implement the DAAF ADP over the next 30 years.

The Final EIS—published on 6 August 2021 and prepared in parallel with federal consultation processes (e.g., section 106 of the National Historic Preservation Act and section 7 of the Endangered Species Act)—analyzed the potential environmental impacts associated with the Proposed Action, including direct, indirect, and cumulative effects. The Final EIS addressed comments received regarding the Draft EIS. The Final EIS also identified mitigation measures the Army and Fort Belvoir will implement to reduce potential adverse impacts.

The Army evaluated two alternatives that would meet the Proposed Action's purpose and need:

1. Full Implementation Alternative (Preferred Alternative): This alternative would implement the complete suite of 24 projects recommended in the DAAF ADP. The Full Implementation Alternative would accommodate the spatial and functional needs of all DAAF tenants consistent with applicable DoD requirements. It would also fulfill DAAF's vision to create a safe, secure, sustainable, and consolidated aviation complex.

2. Partial Implementation Alternative: This alternative would implement a modified, reduced set of 15 ADP projects at DAAF. The Partial Implementation Alternative would not address DAAF tenants' requirements in full, but would substantially improve conditions.

Under the No-Action Alternative, the DAAF ADP would not be implemented. While the No-Action Alternative would not satisfy the Proposed Action's purpose and need, in accordance with the Council on Environmental Quality's NEPA regulations, the No-Action Alternative provides a comparative baseline for gauging the Action Alternatives' potential effects.

The Final EIS determined the Full Implementation Alternative and Partial Implementation Alternative would have potentially significant adverse impacts on wetlands. The Army prepared a Finding of No Practicable Alternative (FONPA) addressing potential impacts on wetlands and floodplains. The approved FONPA is included as an appendix to the Final EIS. The Final EIS concluded the adverse impacts on all analyzed resources other than wetlands would be less than significant under either action alternative.

Based on the analysis presented in the Final EIS, the No-Action Alternative is the environmentally preferred alternative. The Full Implementation Alternative is the Army's selected alternative because it provides the facility and infrastructure upgrades necessary to support DoD requirements and DAAF tenant missions.

The ROD adopts multiple mitigation and protective measures to prevent or minimize the potential adverse environmental impacts of the Full Implementation Alternative. The Army is using all practicable means to avoid or minimize environmental harm caused by the selected alternative. Fort Belvoir DPW-ED will review the planning documents for each of the proposed ADP projects prior to initiation to ensure compatibility with applicable regulatory requirements, best management practices, and minimization measures. Additional surveys, sampling, or testing may be required.

An electronic copy of the ROD is available for review and download at: https://home.army.mil/belvoir/index.php/about/Garrison/directorate-public-works/environmental-division. A printed copy may be requested from Fort Belvoir DPW-ED at the phone number or email address listed above.

Publication of the ROD formally concludes the NEPA process for this Proposed Action. The Army will proceed with the Full Implementation Alternative described in the Final EIS and will execute the mitigation and protective measures identified in the ROD.

James W. Satterwhite Jr.,
Army Federal Register Liaison Officer.

[FR Doc. 2022-21858 Filed 10-6-22; 8:45 am]

BILLING CODE 3711-02-P